DEPARTMENT OF THE INTERIOR

Bureau of Land Management

[21X.LLHQ320000.L13200000.PP0000]

Extension of Public Comment Period for the Notice of Intent To Conduct a Review of the Federal Coal Leasing Program and To Seek Public Comment

AGENCY: Bureau of Land Management, Interior.

ACTION: Notice of extension of public comment period.

SUMMARY: On August 20, 2021, the Bureau of Land Management (BLM) published a Notice of Intent to Conduct a Review of the Federal Coal Leasing Program in the Federal Register and requested public comments. This notice extends the public comment period for 15 days to allow for further public comment and consideration to occur.

DATES: The BLM will consider written comments received or postmarked on or before October 5, 2021.

ADDRESSES: You may submit written comments by the following methods:

• Email: BLM_HQ_320_CoalProgramReview@blm.gov. This is the preferred method of commenting.

• Mail, personal, or messenger delivery: National Coal Program Review, In care of: Thomas Huebner, BLM Wyoming State Office, 5353 Yellowstone Rd, Cheyenne, WY 82009.

FOR FURTHER INFORMATION CONTACT: Lindsey Curnutt, Chief, Division of Solid Minerals, email: lcurnutt@blm.gov, telephone: 480-708-7339. Persons who use a telecommunications device for the deaf (TDD) may call the Federal Relay Service at 1-800-877-8339 to contact Ms. Curnutt. This service is available 24 hours a day, 7 days a week, to leave a message or question. You will receive a reply during normal business hours.

SUPPLEMENTARY INFORMATION: The BLM published a notice on August 20, 2021 (86 FR 46873), inviting comments on the scope of the BLM's review of the Federal coal leasing program. The initial comment period ends September 20, 2021. For additional details on the original notice, please visit the Federal Register's website: https://www.govinfo.gov/content/pkg/FR-2021-08-20/pdf/2021-17827.pdf.

The BLM has received requests for an extension of the public comment period and has decided to extend the comment period by 15 days to provide the public with additional time to provide comments.

The BLM invites interested agencies, States, American Indian tribes, local governments, industry, organizations, and members of the public to submit comments or suggestions to assist in identifying significant issues that the BLM should consider in its review of the Federal coal program.

The Department of the Interior also intends to conduct government-to-government consultation with affected Indian tribes about the Federal coal leasing program and to consider the potential environmental, social, and cultural impacts of the coal program on indigenous communities and their lands during this review.

(Authority: 43 U.S.C. 1701 et seq., 30 U.S.C. 181 et seq., 30 U.S.C. 351 et. seq.)

Nada Wolff Culver,
Deputy Director, Policy and Programs, Bureau of Land Management.

[FR Doc. 2021-20283 Filed 9-17-21; 8:45 am]

BILLING CODE 4310-84-P